DEPARTMENT OF THE INTERIOR

National Park Service

[N6925; NPS-WASO-NAGPRA-NPS0041998; PPWOCRADN0-PCU00RP14.R50000]

Notice of Intended Repatriation: Sonoma State University, Rohnert Park, CA

AGENCY: National Park Service, Interior.

ACTION: Notice.

SUMMARY: In accordance with the Native American Graves Protection and Repatriation Act (NAGPRA), Sonoma State University intends to repatriate certain cultural items that meet the definition of unassociated funerary objects, sacred objects, and/or objects of cultural patrimony and that have a cultural affiliation with the Indian Tribes or Native Hawaiian organizations in this notice.

DATES: Repatriation of the cultural items in this notice may occur on or after March 13, 2026.

ADDRESSES: Send additional, written requests for repatriation of the cultural items in this notice to Kirsten Twork, Sonoma State University, 1801 E Cotati Avenue, Rohnert Park, CA 94928, email tworkk@sonoma.edu.

SUPPLEMENTARY INFORMATION: This notice is published as part of the National Park Service's administrative responsibilities under NAGPRA. The determinations in this notice are the sole responsibility of Sonoma State University, and additional information on the determinations in this notice, including the results of consultation, can be found in the summary or related records. The National Park Service is not responsible for the determinations in this notice.

Abstract of Information Available

A total of 2,568 lots of cultural items have been requested for repatriation. Of the cultural items being requested 2,485 lots are unassociated funerary objects and 83 lots are sacred objects.

A total of 1,821 lots of unassociated funerary objects were removed from CA-SON-518 in Cotati, California in Sonoma County. Items were removed from the site during two different time periods. The first removal occurred in 1973 during the Gossage Creek site excavation. The second occurred in 1989 during the Stony Point Road reconstruction test. The items include flaked stone debitage, flaked stone tools, charcoal, ash, botanical materials, ground stone tools, ocher, fire cracked rock, baked clay, modified faunal bone, unmodified faunal bone, historic material, modified shell, and unmodified shell. The cultural items have been at Sonoma State University since their removal from the site.

A total of 172 lots of unassociated funerary objects were removed from CA-SON-447 in Rohnert Park, California in Sonoma County. Items were removed from the site during two different time periods. The first removal occurred in 1973 during the Russian River Water Supply Project. This project was proposed by the Marin Municipal Water District to construct an aqueduct from the Russian River and Mark West Creek in Sonoma county to Terra Linda in Marin County. The second occurred in 1990, additional information as to why the cultural material was removed from the site was not found. The items include groundstone tools, charmstone, flaked stone debitage, flaked stone tools,unmodified faunal bone and unmodified shell. The cultural items have been at Sonoma State University since their removal from the site.

A total of 24 lots of unassociated funerary objects were removed from CA-SON-1442 in Rohnert Park, California in Sonoma County. Items were removed from the site during two different time periods. The first removal occurred in 1984 and the second occurred in 1987. Further detail as to why the items were removed was not located.The items include flaked stone debitage and ground stone tools. The cultural items have been at Sonoma State University since their removal from the site.

A total of 277 lots of unassociated funerary objects were removed from CA-SON-1794 and CA-SON-1975 in Cotati, California in Sonoma County. Items were removed from the sites during the Stony Point Road Road Reconstruction Project. The items include groundstone tools, flaked stone debitage, flaked stone tools, historic material, organic material, unmodified faunal bone and unmodified shell. The cultural items have been at Sonoma State University since 1989.

A total of two lots of unassociated funerary objects were removed from the surface on Sonoma State University's campus in Rohnert Park, California. The items include flaked obsidian and a possible groundstone tool. The cultural items have been at Sonoma State University since 2021.

A total of 174 lots of unassociated funerary objects were removed from the ground on Sonoma State University's campus in Rohnert Park, California. The material was removed during the construction of the Green Music Center. The items include groundstone tools, historic material, flaked stone debitage, and modified stone tools . The cultural items have been at Sonoma State University since 2006.

A total of 15 lots of unassociated funerary objects were removed from the Fairfield Osborn Preserve in Penngrove, California. The cultural material was removed from display and brought to the Anthropology Studies Center in August 2020. The items include groundstone tools, historic material, flaked stone debitage, and modified stone tools. The cultural items have been at Sonoma State University since.

A total of 17 lots of sacred objects were removed from CA-SON-1567 in Rohnert Park, California in Sonoma County. Further detail as to why the items were removed was not located. The items include flaked stone debitage. The cultural items have been at Sonoma State University since 1987.

A total of 21 lots of sacred objects were removed from CA-SON-686 in Cotati, California in Sonoma County. Items were removed from the site during two different time periods. The first removal occurred in 1978 the second occurred in 1988. Further detail as to why the items were removed was not located. The items include flaked stone debitage and modified stone tools. The cultural items have been at Sonoma State University since their removal from the site.

A total of two lots of sacred objects were removed from CA-SON-927 in Rohnert Park, California in Sonoma County. Further detail as to why the items were removed was not located. The items include modified stone tools. The cultural items have been at Sonoma State University since 1977.

A total of eight lots of sacred objects were removed from their origin in Cotati, California in Sonoma county and donated to the university by Nancy Moore. The items include modified stone tools, flaked stone debitage, and historic period material. The cultural items have been at Sonoma State University since 1976.

A total of five lots of sacred objects were removed during the Crane Creek Regional Park survey in Rohnert Park, California in Sonoma county. The items include modified stone tools and flaked stone debitage. The cultural items have been at Sonoma State University since 1973.

A total of 13 lots of sacred objects were removed from CA-SON-1506 in Rohnert Park, California in Sonoma County. Further detail as to why the items were removed was not located. The items include modified obsidian and flaked debitage. The cultural items have been at Sonoma State University since 1986.

A total of five lots of sacred objects were removed from CA-SON-1923 in Rohnert Park, California in Sonoma County. The cultural items were collected on Sonoma State University's campus. The items include flaked obsidian. The cultural items have been at Sonoma State University since 1991.

A total of 10 lots of sacred objects were removed during the construction of new dorms on Sonoma State University's campus in Rohnert Park, California. The items include flaked obsidian and modified obsidian. The cultural items have been at Sonoma State University since 1998.

A total of two lots of sacred objects were removed from CA-SON-1016 in Cotati, California in Sonoma County. The cultural items were removed during an archaeological evaluation of a portion of the site that overlapped with the Cotati Creek Bypass Project for the City of Cotati. The work was conducted by the Anthropological Studies Center at Sonoma State University. The items include flaked chert. The cultural items have been at Sonoma State University since 2005.

In the case of missing cultural items, any additional items when located will also be repatriated from the collections discussed above. Based on records concerning the cultural items and the institution in which they are housed, there is no evidence of the items being treated with hazardous substances.

Determinations

Sonoma State University has determined that:

• The 2,485 lots of unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 83 lots sacred objects described in this notice are specific ceremonial objects needed by a traditional Native American religious leader for present-day adherents to practice traditional Native American religion, according to the Native American traditional knowledge of a lineal descendant, Indian Tribe, or Native Hawaiian organization.

• There is a connection between the cultural items described in this notice and the Federated Indians of Graton Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, Sonoma State University must determine the most appropriate requestor prior to repatriation. Requests for joint repatriation of the cultural items are considered a single request and not competing requests. The Sonoma State University is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02702 Filed 2-10-26; 8:45 am]

BILLING CODE 4312-52-P